DEPARTMENT OF VETERANS AFFAIRS

Advisory Committee on Homeless Veterans, Notice of Meeting

The Department of Veterans Affairs (VA) gives notice under the Federal Advisory Committee Act, 5 U.S.C. ch. 10, that the Advisory Committee on Homeless Veterans will meet on September 17-18, 2024. The September 17-18, 2024, meeting sessions will be hybrid (held in-person at the Bayaud Enterprises 1550 Dover Street Lakewood, CO 80215; and virtually via Zoom conferencing platform—Mountain Standard Time). The September 2024 meeting sessions will begin and end as follows:

Date | Mountain standard time | Open session
September 17, 2024 | 9:00 a.m.-3:30 p.m. Mountain Standard Time (MST) | Yes.
September 18, 2024 | 9:00 a.m.-11:00 a.m. (MST) | Yes.
September 18, 2024 | 12:00 p.m.-4:00 p.m. (MST) | No.

The meeting sessions are open to the public, except during the time the Committee is conducting tours of VA facilities. Tours of VA facilities are closed, to protect Veterans' privacy and personal information, in accordance with 5 U.S.C 552b(c)(6).

The purpose of the Committee is to provide the Secretary of Veterans Affairs with an ongoing assessment of the effectiveness of the policies, organizational structures, and services of VA in assisting Veterans at risk of and experiencing homelessness. The Committee shall assemble and review information related to the needs of homeless Veterans and provide advice on the most appropriate means of assisting this Veteran population.

On September 17, 2024, the meeting will be open to the public and the agenda will include briefings from VA and other Federal, state, and local agencies regarding services for homeless Veterans. On September 18, 2024 (9:00 a.m.-11:00 a.m. Mountain Standard Time), the meeting will be open to the public and the agenda will include the Committee's proposed recommendations for the next annual report. On September 18, 2024, (12:00 p.m.-4:00 p.m. Mountain Standard Time), Committee members will tour Veterans service facilities that support homeless Veterans. Tours of Veteran service facilities are closed to protect Veterans' privacy and personal information in accordance with 5 U.S.C. 552b(c)(6).

Time will be allocated at the September 17, 2024, meeting for receiving oral presentations from the public (during the 30 minutes public comment segment). By August 30, 2024, interested parties that would like to provide oral or written presentations on issues affecting homeless Veterans should send such presentations to Anthony Love, Designated Federal Officer, Veterans Health Administration Homeless Programs Office (11HPO), U.S. Department of Veterans Affairs, 810 Vermont Avenue NW (11HPO), Washington, DC 20420, at achv@va.gov, for distribution to the Committee.

Additionally, members of the public who wish to attend the September 17-18, 2024, meetings virtually, please use the Zoom link below to sign in. For those attending in person, a photo I.D. may be required at the Guard's Desk as a part of the entrance screening process. Due to an increase in security protocols, you should arrive 30 minutes before the meeting begins. An escort for meeting attendees will be provided until 8:45 a.m. Mountain Standard Time. Attendees or interested parties who require reasonable accommodations should send a message to Mr. Anthony Love at achv@va.gov. The meeting link and call-in numbers are noted below:

September 17, 2024 Meeting (9:00 a.m.-3:00 p.m. Mountain Standard Time)

September 18, 2024 Meeting (9:00 a.m.-11:00 a.m. Mountain Standard Time)

Zoom Meeting: https://us06web.zoom.us/j/82330308555?pwd=F5wpsImYoULLLPri1YHPE61nAdTcL6.1

Meeting ID: 823 3030 8555

Passcode: 767879

Phone:

Meeting ID: 823 3030 8555

Passcode: 767879

+1 312 626 6799 US (Chicago)

+1 646 558 8656 US (New York)

+1 646 931 3860 US

+1 301 715 8592 US (Washington DC)

+1 305 224 1968 US

+1 309 205 3325 US

+1 253 205 0468 US

+1 253 215 8782 US (Tacoma)

+1 346 248 7799 US (Houston)

+1 360 209 5623 US

+1 386 347 5053 US

+1 507 473 4847 US

+1 564 217 2000 US

+1 669 444 9171 US

+1 689 278 1000 US

+1 719 359 4580 US

+1 720 707 2699 US (Denver)

Contact achv@va.gov if you need assistance.

Dated: August 7, 2024.
Jelessa M. Burney,
Federal Advisory Committee Management Officer.

[FR Doc. 2024-17959 Filed 8-12-24; 8:45 am]

BILLING CODE 8320-01-P